DEPARTMENT OF TRANSPORTATION

Coast Guard

33 CFR Part 165

[CGD09-02-060]

Safety Zones; Captain of the Port Milwaukee Zone

AGENCY: Coast Guard, DOT.

ACTION: Notice of implementation of regulation.

SUMMARY: The Coast Guard is implementing safety zones for annual fireworks displays in the Captain of the Port Milwaukee Zone during July 2002. This action is necessary to provide for the safety of life and property on navigable waters during these events. These zones will restrict vessel traffic from a portion of the Captain of the Port Milwaukee Zone.

DATES: Effective from 12:01 a.m. (local) on July 1, 2002 to 11:59 p.m. (local) on July 31, 2002.

FOR FURTHER INFORMATION CONTACT: Marine Science Technician Chief Dave McClintock, U.S. Coast Guard Marine Safety Office Milwaukee, at (414) 747-7155.

SUPPLEMENTARY INFORMATION: The Coast Guard is implementing the permanent safety zones in 33 CFR 165.909 (67 FR 44558, July 3, 2002), for fireworks displays in the Captain of the Port Milwaukee Zone during July 2002. The following safety zones are in effect for fireworks displays occurring in the month of July 2002:

(1) City of Sheboygan Fourth of July Fireworks, Sheboygan, WI. Location: All waters and adjacent shoreline of Lake Michigan encompassed by the arc of a circle with an 840-foot radius with its center in the approximate position 43°44.48′ N, 087°42.14′ W (NAD 1983), on July 4, 2002 from 9:20 p.m. until 10:05 p.m. In the event of inclement weather on July 4, 2002, the safety zone will be enforced on July 5, 2002 from 9:20 p.m. until 10:05 p.m. This safety zone will encompass the entrance to Sheboygan Harbor and will result in its closure while the safety zone is in effect.

(2) City of Kenosha Fourth of July Fireworks, Kenosha, WI. Location: All waters and adjacent shoreline around the South Pier Light area, Lake Michigan encompassed by the arc of a circle with an 840-foot radius with its center in approximate position 42°35.17′ N, 087°48.33′ W (NAD 1983), on July 4, 2002 from 9:15 p.m. until 10:05 p.m. This safety zone will encompass the entrance to Kenosha Harbor and will result in its closure while the safety zone is in effect.

(3) U.S. Bank (Firstar) Fireworks, Milwaukee, WI. Location: All waters and adjacent shoreline south of Juneau Park, outer Milwaukee Harbor encompassed by the arc of a circle with an 840-foot radius of the fireworks barge with its center in approximate position 43°02.23′ N, 087°53.30′ W (NAD 1983), on July 3, 2002 from 9:20 p.m. until 10:10 p.m. In the event of inclement weather on July 3, 2002, the safety zone will be enforced on July 4, 2002 from 9:20 p.m. until 10:10 p.m.

(4) Manitowoc Municipal Fourth of July Fireworks, Manitowoc, WI. Location: The primary location will include all waters and adjacent shoreline east of the Manitowoc Yacht Club, Lake Michigan encompassed by the arc of a circle with an 840-foot radius of the fireworks barge in approximate position 44°06.05′ N, 087°38.37′ W (NAD 1983), on July 4, 2002 from 9:20 p.m. until 10:10 p.m. The alternate location will include all waters and the adjacent shoreline encompassed by the arc of a circle with a 420-foot radius of the fireworks barge with its center in approximate position 44°05.33′ N, 087°39.00′ W (NAD 1983), on July 4, 2002 from 9:20 p.m. until 10:10 p.m. If display is moved to secondary site, it will temporarily close entrance to Manitowoc Harbor.

(5) Fourthfest of Greater Racine, Racine, WI. Location: The primary location will include all waters and adjacent shoreline around the north breakwall, Lake Michigan encompassed by the arc of a circle with a 560-foot radius with its center in approximate position 42°44.14′ N, 087°46.30′ W (NAD 1983) on July 4, 2002 from 9:20 p.m. until 10:10 p.m. The alternate location will include all waters and adjacent shoreline encompassed by the arc of a circle with a 560-foot radius with its center in approximate position 42°44.21′ N, 087°46.45′ W (NAD 1983) (on the beach north of the northern breakwall) on July 4, 2002 from 9:20 p.m. until 10:10 p.m. In the event of inclement weather on July 4, 2002, the safety zone will be enforced on July 5, 2002 from 9:20 p.m. until 10:10 p.m.

(6) Celebrate Amerifest, Green Bay, WI. Location: All waters and adjacent shoreline between the Green Bay & Western Railroad Bridge (mile marker 1.03) and the Mason St. Bridge (mile marker 3.52) on the Fox River on July 4, 2002 from 2 p.m. until 11 p.m. This safety zone will temporarily close the Fox River. (This safety zone does not encompass the water of the East River.)

(7) South Shore Frolics Fireworks, Milwaukee, WI. Location: All waters and adjacent shoreline east of the South Shore Park, Milwaukee Harbor encompassed by the arc of a circle with a 280-foot radius with its center in approximate position 42°59.43′ N, 087°52.54′ W (NAD 1983), on July 12, 13, and 14, 2002 from 9:50 p.m. until 10:30 p.m.

(8) Kewaunee Annual Trout Festival, Kewaunee, WI. Location: All waters and adjacent shoreline around the south breakwall area, Lake Michigan encompassed by the arc of a circle with a 560-foot radius with its center in approximate position 44°27.30′ N, 087°29.46′ W (NAD 1983), on July 19, 2002 from 9:20 p.m. until 9:50 p.m. This safety zone will temporarily close the entrance to Kewaunee Harbor.

(9) Port Washington Fish Days Fireworks, Port Washington, WI. Location: All waters and adjacent shoreline around the Wisconsin Electric Coal Dock, Lake Michigan encompassed by the arc of a circle with an 840-foot radius with its center in approximate position 43°23.07′ N, 087°51.55′ W (NAD 1983), on July 20, 2002 from 9:25 p.m. until 10:10 p.m. This safety zone will temporarily close the entrance to Port Washington Harbor.

(10) Germanfest Fireworks, Milwaukee, WI. Location: All waters off of Henry W. Maier Festival Park Harbor Island, outer Milwaukee Harbor from the point of origin 43°02.209′ N, 087°53.714′ W; then southeast to 43°02.117′ N, 087°53.417′ W; then south to 43°01.767′ N, 087°53.417′ W; southwest to 43°01.555′ N, 087°53.772′ W; then north following the shoreline back to the point of origin (NAD 1983) on July 26, 27, and 28, 2002 from 9:50 p.m. until 10:30 p.m. The Harbor Island Lagoon Area is encompassed by this safety zone.

In order to ensure the safety of spectators and transiting vessels, these safety zones will be enforced for the duration of the events. Vessels may not enter the safety zone without permission from Captain of the Port Milwaukee. Requests to transit the safety zone must be made in advance by contacting the person listed in FOR FURTHER INFORMATION CONTACT and must be approved by the Captain of the Port Milwaukee before transits will be authorized. Spectator vessels may anchor outside the safety zone but are cautioned not to block a navigable channel.

Dated: July 3, 2002.
M.R. DeVries,
Commander, U.S. Coast Guard, Captain of the Port Milwaukee.

[FR Doc. 02-17740 Filed 7-12-02; 8:45 am]

BILLING CODE 4910-15-P